FEDERAL COMMUNICATIONS COMMISSION

[OMB 3060-0207]

Information Collection Being Reviewed by the Federal Communications Commission

AGENCY: Federal Communications Commission.

ACTION: Notice and request for comments.

SUMMARY: As part of its continuing effort to reduce paperwork burdens, and as required by the Paperwork Reduction Act of 1995 (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written PRA comments should be submitted on or before November 12, 2019. If you anticipate that you will be submitting comments, but find it difficult to do so within the period of time allowed by this notice, you should advise the contact listed below as soon as possible.

ADDRESSES: Direct all PRA comments to Nicole Ongele, FCC, via email PRA@fcc.gov and to Nicole.ongele@fcc.gov.

FOR FURTHER INFORMATION CONTACT: For additional information about the information collection, contact Nicole Ongele, (202) 418-2991.

OMB Control Number: 3060-0207.

Title: Part 11—Emergency Alert System (EAS), Order, FCC 19-57.

Form No.: N/A.

Type of Review: Revision of currently approved collection.

Respondents: Business or other for-profit; Not-for-profit institutions; State, Local, or Tribal Government.

Number of Respondents and Responses: 63,084 respondents; 3,588,830 responses.

Estimated Time per Response: 0.017 hours-0.68 hours.

Frequency of Response: Recordkeeping requirement and third-party disclosure requirements.

Obligation to Respond: Mandatory. Statutory authority for this information collection is contained in 47 U.S.C. 154(i) and 606 of the Communications Act of 1934, as amended.

Total Annual Burden: 140,751 hours.

Total Annual Cost: No Cost.

Privacy Act Impact Assessment: No Impact(s).

Nature and Extent of Confidentiality: Logged information on receipt of the weekly test by Satellite Digital Audio Radio Service (SDARS) providers is retained for two years at the provider's headquarters, and available for public inspection upon reasonable request.

Needs and Uses: Part 11 contains rules and regulations addressing the nation's Emergency Alert System (EAS). The EAS provides the President with the capability to provide immediate communications and information to the general public during periods of national emergency over broadcast television and radio, cable, direct broadcast radio and other EAS Participants, as defined in Section 11.11(a) of the Commission's rules The EAS also provides state and local governments and the National Weather Service with the capability to provide immediate communications and information to the public concerning emergency situations posing a threat to life and property. Part 11 includes testing requirements to ensure proper and efficient operation of the EAS.

In the Order, EB Docket No. 04-296, PS Docket No. 15-94, FCC 19-57, the Commission amended the Part 11 EAS testing requirements applied to SDARS providers to (i) eliminate requiring SDARS providers to transmit weekly tests in favor of requiring them to only log receipt of the weekly test, and (ii) eliminate the requirement that SDARS providers transmit monthly test on all channels in favor of requiring them to transmit the monthly test on 10% of all of their channels, with channels tested varying from month to month, so that over the course of a given year, 100% of all of its channels are tested.

The Commission seeks OMB approval of these rule amendments as a modification of a previously approved information collection. These changes to the SDARS testing requirements were specifically requested by the lone entity authorized to provide SDARS service in the U.S. The amendments harmonize the EAS testing requirements applied to SDARS service with those applied to the similarly situated Direct Broadcast Satellite (DBS) service. Further, the changes to the SDARS test requirements represent a net reduction in the burden imposed on SDARS providers (of which there is only one). Specifically, the modified monthly test requirements for SDARS do not eliminate monthly testing but likely make such testing less burdensome to administer and schedule. The weekly test requirement for SDARS of substituting logging of receipt of a weekly test for conducting the weekly test, represents a reduced burden, as EAS equipment automatically records when weekly tests are received. Further, not having to transmit the EAS header codes and End of Message (EOM) code on all channels randomly once per week relieves the SDARS provider from having to coordinate and administer such testing.

Because the reduced burden is de minimis relative to the aggregate estimated in-house cost to all regulated entities subject to weekly EAS testing requirements, we are not seeking to change the currently approved burden inventory. Specifically, the currently approved burden for conducting weekly tests has been established at 0.017 hours per week, for 40 weeks (weekly tests are not required for the week in which a monthly test is conducted); thus, the annual burden for SDARS providers to conduct weekly tests is 0.68 hours, at an estimated annual in-house cost of $26 ((0.68) × ($38 per hour)). While it seems likely that this annual cost will be lessened under the modified weekly testing requirement—to some figure between $0 and $26—given that there is only one SDARS provider, that amount will be de minimis relative to the total estimated in-house cost to all respondents (currently approved at 42,840 hours at an aggregate cost of $1,627,920).

The following information collections contained in Part 11 may be impacted by the rule amendments described herein. The revised EAS testing requirements for SDARS providers affect one entity, who formally requested adoption of such amendments. As described above, the revised requirements represent a net reduction in burdens to SDARS providers. The rule amendments may impact currently existing paperwork collection requirements as discussed below.

Section 11.35 requires that all EAS Participants (the entities required to transmit federal EAS alerts) are responsible for ensuring that EAS Encoders/Decoders and Attention Signal generating and receiving equipment used as part of the EAS are installed so that the monitoring and transmitting functions are available during the times the stations/systems are in operation. EAS Participants must determine the cause of any failure to receive the required tests or activations. When the EAS is not operating properly, section 11.35 requires appropriate entries be made in the station/system logs indicating why any tests were not received for all broadcast streams and cable systems. All other EAS Participants must also keep record indicating reasons why any tests were not received and these records must be retained for two years, maintained at the EAS Participant's headquarters, and made available for public inspection upon reasonable request.

Section 11.61 requires EAS Participants to conduct periodic EAS tests. Tests of the EAS header codes, attention signal, test script and EOM code are required to be performed monthly. Tests of the EAS header codes and end of message codes are made at least once a week. National primary sources shall participate in tests as appropriate. DBS providers, Class D non-commercial educational FM stations and low power TV stations are not required to transmit this test but must log receipt of the test in conformance with Section 11.35. The FCC may request a report of the tests of the national primary sources. In addition, entries must be made in stations/systems logs/records as previously stated.

This information is used by FCC staff as part of routine inspections of EAS Participants. Accurate recordkeeping of this data is vital in determining the location and nature of possible equipment failure on the part of the transmitting or receiving entity. Furthermore, since the national level EAS is solely for the President's use, its proper operation must be assured.

Federal Communications Commission.
Katura Jackson,
Federal Register Liaison Officer, Office of the Secretary.

[FR Doc. 2019-19760 Filed 9-11-19; 8:45 am]

BILLING CODE 6712-01-P